DEPARTMENT OF HEALTH AND HUMAN SERVICES

Centers for Disease Control and Prevention (CDC)

[CDC-2013-0025, Docket Number NIOSH-266]

Criteria for a Recommended Standard; Occupational Exposure to Heat and Hot Environments; Draft Criteria Document Availability

AGENCY: National Institute for Occupational Safety and Health (NIOSH) of the Centers for Disease Control and Prevention (CDC), Department of Health and Human Services (HHS).

ACTION: Notice of draft document for public comment and public meeting.

SUMMARY: The National Institute for Occupational Safety and Health of the Centers for Disease Control and Prevention announces the availability of a draft Criteria Document entitled Criteria for a Recommended Standard: Occupational Exposure to Heat and Hot Environments for public comment. To view the notice and related materials, visit http://www.regulations.gov and enter CDC-2013-0025 in the search field and click “Search.” Comments may be provided to the NIOSH docket, as well as given orally at the meeting.

DATES: Public comment period: Comments must be received by February 25, 2014.

Public Meeting Time and Date: February 13, 2014, 9 a.m.-4 p.m., Eastern Time. Please note that public comments may end before the time indicated, following the last call for comments. Members of the public who wish to provide public comments should plan to attend the meeting at the start time listed.

Place: Robert A. Taft Laboratories, 4676 Columbia Pkwy., Cincinnati, OH 45226. Room: Taft Auditorium.

Status: The meeting is open to the public, limited only by the space available. The meeting space accommodates approximately 100 people. In addition, there will be an audio teleconference line for those who cannot attend in person. There is no registration fee to attend this public meeting. However, those wishing to attend are encouraged to register by February 5, 2014 with the NIOSH Docket Office at 513/533-8611 or email nioshdocket@cdc.gov.

Security Considerations: Due to mandatory security clearance procedures at the Robert A. Taft Laboratories, in-person attendees must present valid government-issued picture identification to security personnel upon entering the building and go through an airport-type security check.

Non-U.S. Citizens: Because of CDC Security Regulations, any non-U.S. citizen wishing to attend this meeting must provide the following information in writing to the NIOSH Docket Officer at the address below no later than January 13, 2014 to allow time for mandatory CDC facility security clearance procedures to be completed.

1. Name:

2. Gender:

3. Date of Birth:

4. Place of Birth (city, province, state, country):

5. Citizenship:

6. Passport Number:

7. Date of Passport Issue:

8. Date of Passport Expiration:

9. Type of Visa:

10. U.S. Naturalization Number (if a naturalized citizen):

11. U.S. Naturalization Date (if a naturalized citizen):

12. Visitor's Organization:

13. Organization Address:

14. Organization Telephone Number:

15. Visitor's Position/Title within the Organization:

This information will be transmitted to the CDC Security Office for approval. Visitors will be notified as soon as approval has been obtained. Non-U.S. citizens are encouraged to participate in the audio conferencing due to the extra clearance involved with in-person attendance.

Attendee and Speaker Registration: Attendees are encouraged to sign up by February 5, 2014 with the NIOSH Docket Office. Individuals wishing to speak during the meeting may sign up when registering with the NIOSH Docket Office no later than February 5, 2014, at 513/533-8611 or by email at nioshdocket@cdc.gov. Those who have not signed up to present in advance may be allowed to present at the meeting if time allows.

Persons wanting to provide oral comments will be permitted up to 20 minutes. If additional time becomes available, presenters will be notified. Oral comments given at the meeting must also be submitted to the docket in writing in order to be considered by the Agency.

Priority for attendance will be given to those providing oral comments. Other requests to attend the meeting will then be accommodated on a first-come basis. Unreserved walk-in attendees will not be admitted due to security clearance requirements.

Purpose of the Meeting: To discuss and obtain comments on the draft document, “Criteria for a Recommended Standard: Occupational Exposure to Heat and Hot Environments”. Special emphasis will be placed on discussion of the following:

Overall Questions

(1) Is worker acclimatization clearly explained and presented?

(2) Are there any additional recommendations that should be made?

(3) Is there any additional information on hydration that should be considered?

(4) Are there any additional risk factors for heat-related illnesses that should be discussed?

(5) Are there any additional examples of auxiliary body cooling and protective clothing that should be included?

(6) Are there any additional research needs that should be mentioned?

(7) Are there any additional references that should be included?

Written comments will be accepted at the meeting. Written comments may also be submitted by any of the following methods:

• Federal eRulemaking Portal: http://www.regulations.gov. Follow the instructions for submitting comments.

• Mail: NIOSH Docket Office, Robert A. Taft Laboratories, 4676 Columbia Parkway, MS C-34, Cincinnati, Ohio 45226.

All material submitted to the Agency should reference the agency name and docket number (CDC-2013-0025; NIOSH-266). All electronic comments should be formatted as Microsoft Word. Please make reference to CDC-2013-0025 and Docket Number NIOSH-266.

All information received in response to this notice will be available for public examination and copying at the NIOSH Docket Office, Room 109, 4676 Columbia Parkway, Cincinnati, Ohio, 45226.

Background: Workers who are exposed to extreme heat or work in hot environments may be at risk of heat stress. Exposure to extreme heat can result in occupational illnesses and injuries. Heat stress can result in heat-related illnesses such as heat stroke, heat exhaustion, heat cramps, or heat rashes. Heat can also increase the risk of injuries in workers as it may result in sweaty palms, fogged-up safety glasses, and dizziness. Burns may also occur as a result of accidental contact with hot surfaces or steam. Workers at risk of heat stress include outdoor workers and workers in hot environments such as firefighters, bakery workers, farmers, construction workers, miners, boiler room workers, factory workers, and others.

In 1986, NIOSH published a Criteria Document on hot environments [DHHS (NIOSH) Publication No. 86-113] http://www.cdc.gov/niosh/docs/86-113/86-113.pdf which identified many of the effects of heat, provided information on appropriate measuring techniques, and made recommendations for occupational standards, prevention and control. In recent years, including during the oil spill response of 2010, questions were raised regarding whether this document needed to be updated with additional research and findings. Recent literature was reviewed to determine areas that needed updating and revision.

FOR FURTHER INFORMATION CONTACT: Brenda Jacklitsch, Phone: (513) 533-8369, Email: GWE6@CDC.GOV, NIOSH, MS-C32, Robert A. Taft Laboratories, 4676 Columbia Parkway, Cincinnati, OH 45226.

Dated: December 20, 2013.
John Howard,
Director, National Institute for Occupational Safety and Health, Centers for Disease Control and Prevention.

[FR Doc. 2013-31066 Filed 12-26-13; 8:45 am]

BILLING CODE 4163-19-P